DEPARTMENT OF COMMERCE

National Oceanic and Atmospheric Administration

50 CFR Part 679

[I.D. 110904D]

RIN 0648-AS37

Fisheries of the Exclusive Economic Zone Off Alaska; Aleutian Islands Directed Pollock Fishery

AGENCY: National Marine Fisheries Service (NMFS), National Oceanic and Atmospheric Administration (NOAA), Commerce.

ACTION: Notice of availability; request for comments.

SUMMARY: The North Pacific Fishery Management Council (Council) has submitted Amendment 82 to the Fishery Management Plan for Groundfish of the Bering Sea and Aleutian Islands Management Area (FMP). Amendment 82, if approved, would establish a framework for management of the Aleutian Islands subarea (AI) directed pollock fishery. This action is necessary to implement provisions of the Consolidated Appropriations Act of 2004 that require the directed pollock fishery in the AI to be allocated to the Aleut Corporation for economic development of Adak, Alaska. This action is intended to promote the goals and objectives of the Magnuson-Stevens Fishery Conservation and Management Act (Magnuson-Stevens Act), the FMP, Consolidated Appropriations Act of 2004, and other applicable laws. Comments from the public are welcome.

DATES: Comments on Amendment 82 must be received by close of business on January 18, 2005.

ADDRESSES: Send comments to Sue Salveson, Assistant Regional Administrator, Sustainable Fisheries Division, Alaska Region, NMFS, Attn: Lori Durall. Comments may be submitted by:

• Mail: P.O. Box 21668, Juneau, AK 99802;

• Hand delivery to the Federal Building: 709 West 9th Street, Room 420A, Juneau, AK;

• Fax: 907-586-7557; or

• E-mail: BSA82NOA-0648-AS37@noaa.gov. Include in the subject line the following document identifier: AI pollock NOA. E-mail comments, with or without attachments, are limited to 5 megabytes.

Copies of Amendment 82, the Environmental Assessment/Regulatory Impact Review (EA/RIR) for the amendment, and the 2000 and 2001 Biological Opinions on the groundfish fisheries may be obtained from the same address or from the Alaska Region NMFS website at www.fakr.noaa.gov.

FOR FURTHER INFORMATION CONTACT: Melanie Brown, 907-586-7228 or melanie.brown@noaa.gov.

SUPPLEMENTARY INFORMATION: The Magnuson-Stevens Act requires that each Regional Fishery Management Council submit any FMP amendment it prepares to NMFS for review and approval, disapproval, or partial approval. The Magnuson-Stevens Act also requires that NMFS, upon receiving a FMP amendment, immediately publish a notice in the Federal Register that the amendment is available for public review and comment.

The Council adopted Amendment 82 in June 2004 and clarified it in October 2004. If approved by NMFS, this amendment would establish a framework for management of the AI directed pollock fishery. The Consolidated Appropriations Act of 2004 (Public Law (Pub. L.) 108-199, Sec. 803) requires the AI directed pollock fishery to be allocated to the Aleut Corporation for economic development of Adak, Alaska. This action would establish the allocation of the directed pollock fishery to the Aleut Corporation and would specify the management provisions for this fishery.

Public Law 108-199 requires the Aleut Corporation's selection of participants in the AI directed pollock fishery and limits participation to American Fisheries Act (AFA, Pub. L. 105-277, Title II of Division C) qualified entities and vessels equal to or less than 60 feet (18.3 m) in length overall (LOA) with certain endorsements. Section 803(b) restricts the annual harvest of pollock in the AI directed pollock fishery by vessels equal to or less than 60 feet (18.3 m) LOA to less than 25 percent until 2009, and to less than 50 percent prior to 2013. These vessels must receive 50 percent of the directed pollock fishery allocation starting in 2013 and beyond. An FMP amendment and associated regulatory amendments are needed to implement these and other measures necessary to manage this fishery pursuant to provisions specified in Pub. L. 108-199.

Prior to Pub. L. 108-199, the AI directed pollock fishery was managed pursuant to the AFA. The AFA allocated the AI directed pollock fishery to specific harvesters and processors named in the AFA and specified in regulations at 50 CFR part 679. Public Law 108-199 allocates all of the AI directed pollock fishery to the Aleut Corporation. The implementation of Pub. L. 108-199 requires the amendment of AFA provisions in the FMP and in the regulations at 50 CFR part 679 to provide for the allocation of the AI directed pollock fishery to the Aleut Corporation and for the management of this fishery.

The management provisions of Amendment 82 include:

1. Allocation of the AI directed pollock fishery to the Aleut Corporation;

2. Harvest specifications provisions including limits on the size of the annual total allowable catch (TAC) of pollock, the seasonal apportionment of pollock TAC, the Council's policy on the methods of funding the AI directed pollock fishery within the 2 million metric ton (mt) maximum annual optimum yield for groundfish of the BSAI, and the Council's policy on reallocating unharvested amounts of the AI pollock allocation to the Bering Sea pollock allocation;

3. Fishery monitoring provisions including restrictions on having pollock from more than one area on a vessel at one time, observer and scale requirements, catch monitoring control plans for shoreside and stationary floating processors, and the Aleut Corporation's responsibilities for ensuring the harvest does not exceed the quotas;

4. Limitations on the pollock allocation to AFA qualified vessels and to vessels equal to or less than 60 feet (18.3 m) LOA until 2013, when at least 50 percent of the allocation must be to vessels equal to or less than 60 feet (18.3 m) LOA;

5. Reporting requirements; and

6. A new AI Chinook salmon prohibited species catch limit and revisions to Chinook salmon savings areas closure requirements.

Pollock is an important prey species for the endangered and threatened Steller sea lion populations. The Steller sea lion protection measures evaluated in the 2000 and 2001 Biological Opinions (see ADDRESSES) were considered in the development of the management provisions of Amendment 82. The protection measures for Steller sea lions include spatial and temporal dispersion of pollock harvest. The pollock fishing closure areas in the AI would remain unchanged under Amendment 82 to ensure spatial dispersion of fishing effort. To temporally disperse harvest of prey species, the Steller sea lion protection measures implemented in the BSAI apportion 40 percent of pollock harvest to the A season and 60 percent to the B season. Amendment 82 would continue to temporally disperse pollock harvest with no more than 40 percent of the acceptable biological catch (ABC) authorized to be harvested in the A season. The total harvest of pollock in the Bering Sea subarea, including any rollover of unharvested AI pollock, also would remain well below the ABC so that overall harvest would be in proportion to biomass and less likely to compete with Steller sea lions for prey. Both of these harvest provisions satisfy the intent of the Steller sea lion protection measures.

Public comments are being solicited on proposed Amendment 82 through January 18, 2005. A proposed rule that would implement Amendment 82 will be published in the Federal Register for public comment at a later date, following NMFS' evaluation under the Magnuson-Stevens Act procedures. Public comments on the proposed rule must be received by the end of the comment period on the amendment in order to be considered in the approval/disapproval decision on the amendment. All comments received on the amendment by the end of the comment period, whether specifically directed to the amendment or to the proposed rule, will be considered in the approval/disapproval decision. Comments received after that date will not be considered in the approval/disapproval decision on the amendment. To be considered, comments must be received not just postmarked or otherwise transmitted by close of business on the last day of the comment period.

Dated: November 10, 2004.
Alan D. Risenhoover,
Acting Director, Office of Sustainable Fisheries, National Marine Fisheries Service.

[FR Doc. 04-25431 Filed 11-15-04; 8:45 am]

BILLING CODE 3510-22-S